DEPARTMENT OF ENERGY

Federal Energy Regulatory Commission

[Docket No. EL09-52-000]

City of Riverside, CA; Notice of Filing

May 14, 2009.

Take notice that on May 6, 2009, the City of Riverside, California (Riverside) filed a petition for declaratory order requesting approval of its revised Base Transmission Revenue Requirement, revised Transmission Revenue Balancing Account Adjustment, revised High Voltage Transmission Revenue Requirement and accompanying mechanism to adjust the cost of its Riverside's Existing Transmission Contracts with Southern California Edison Company, pursuant to Rule 205 of the Commission's Rules and Practice and Procedure, 18 CFR 385.205 and section 26.1.1 of the California Independent System Operator Corporation Tariff. Riverside also requests for waiver of the sixty-day notice requirement provided for in Commission's regulations at 18 CFR 35.3(a) and waiver of the filing fee, pursuant to Rule 207 of the Commission's Rules of Practice and Procedure, 18 CFR 385.207.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 5, 2009.

Kimberly D. Bose,
Secretary.

[FR Doc. E9-11796 Filed 5-20-09; 8:45 am]

BILLING CODE 6717-01-P